DEPARTMENT OF THE INTERIOR

Fish and Wildlife Service

Meeting Announcement: Sporting Conservation Council

AGENCY: Fish and Wildlife Service, Interior.

ACTION: Notice of meeting.

SUMMARY: This notice announces the first meeting of the Sporting Conservation Council (Council). The meeting is open to the public. Agenda items tentatively include presentations by the Fish and Wildlife Service and the Bureau of Land Management, an overview of the Federal Advisory Committee Act, a session on ethics, election of the Council chairperson by members of the Council, development of a plan to address Council objectives, and a discussion on future meetings. The meeting will also include a session for the public to comment.

DATES: We will hold the meeting on August 16 and 17, 2006, from 9 a.m. to 4:30 p.m. From 9 a.m. to 10 a.m. on August 17, we will host a public comment session.

ADDRESSES: The meeting will be held at 250 Station Drive, Missoula, Montana 59801.

FOR FURTHER INFORMATION CONTACT: Phyllis T. Seitts, 9828 North 31st Avenue, Phoenix, Arizona 85051-2517; 602-906-5603 (phone); or Twinkle_Thompson-Seitts@blm.gov (e-mail).

SUPPLEMENTARY INFORMATION: The Secretary of the Interior established the Sporting Conservation Council in February 2006. The Council's mission is to provide advice and guidance to the Federal Government through the Department of the Interior on how to increase public awareness of: (1) The importance of wildlife resources, (2) the social and economic benefits of recreational hunting, and (3) wildlife conservation efforts that benefit recreational hunting and wildlife resources.

The Secretary of the Interior and the Secretary of Agriculture recently signed an amended charter for the Council. The revised charter states that the Council will provide advice and guidance to the Federal Government through the Department of the Interior and the Department of Agriculture.

The Council will hold its first meeting on the dates shown in the DATES section at the address shown in the ADDRESSES section. The meeting will include a session for the public to comment.

Dated: July 24, 2006.
Phyllis T. Seitts,
Designated Federal Officer, Sporting Conservation Council.

[FR Doc. E6-12292 Filed 7-31-06; 8:45 am]

BILLING CODE 4310-55-P